DEPARTMENT OF THE INTERIOR

Fish and Wildlife Service

[FWS-R5-ES-2016-N222; FVHC98310503020-XXX-FF05E1NY00]

Proposed Settlement Agreement Under Environmental Protection Statutes

AGENCY: Fish and Wildlife Service, Interior.

ACTION: Notice of proposed settlement; request for public comments.

SUMMARY: Notice is hereby given that the Department of the Interior, U.S. Fish and Wildlife Service (DOI), together with the State of New York Department of Environmental Conservation (DEC), reached agreement on a proposed settlement with Atlantic Richfield Company regarding natural resource damages arising from environmental contamination at the Sinclair Refinery Superfund Site, located in Allegany County, New York. The settlement will resolve claims under the Comprehensive Environmental Response, Compensation, and Liability Act; the Oil Pollution Act; the Clean Water Act; and applicable State law.

DATES: Comments must be submitted by February 10, 2017.

ADDRESSES: Document availability: A copy of the proposed settlement may be obtained from Amy Roe, USFWS Biologist, by mail to the U.S. Fish and Wildlife Service, New York Field Office, 3817 Luker Road, Cortland, NY 13045; via email to amy_roe@fws.gov; or via telephone at 607-753-9334.

Comment submission: Comments should be addressed to Amy Roe at the contact information listed above and should reference the Sinclair Refinery Superfund Site.

DOI response to comments: DOI's response to any comments received will be available for public inspection at https://www.fws.gov/northeast/nyfo/ec/nrda.htm.

FOR FURTHER INFORMATION CONTACT: Direct technical questions to Amy Roe (see ADDRESSES). For legal questions, contact Mark Barash, via mail to the Office of the Solicitor, U.S. Department of the Interior, Suite 612, 1 Gateway Center, 300 Washington Street, Newton, MA 02458; via email to mark.barash@sol.doi.gov; or via telephone at 617-527-2103.

SUPPLEMENTARY INFORMATION: This proposed settlement with Atlantic Richfield Company regarding natural resource damages arising from environmental contamination at the Sinclair Refinery Superfund Site, located in Allegany County, NY, will resolve claims in accordance with section 122(j) of the Comprehensive Environmental Response, Compensation, and Liability Act, as amended (42 U.S.C. 9622(j); CERCLA), and Executive Order 12580 (52 FR 2923; January 29, 1987). The settling party to this settlement is Atlantic Richfield Company. The settlement includes a covenant not to sue the settling party pursuant to section 107(a)(1)(C) of CERCLA, 42 U.S.C. 9607(a)(1)(C); the Oil Pollution Act of 1990, 33 U.S.C. 2701 et seq.; and the natural resource damages provisions of the Clean Water Act, 33 U.S.C. 1321(f)(4).

The settlement will require Atlantic Richfield Company to pay a total of $275,000. DOI and DEC will receive $9,000 and $1,500, respectively, to reimburse assessment costs. The rest of the money, $264,500, will fund projects to restore, rehabilitate, replace, and/or acquire the equivalent of the natural resources injured at the site, including the costs of restoration planning and oversight activities. In exchange, DOI and DEC will provide the settling party a covenant not to sue. The settlement has been approved by the Environmental and Natural Resources Division of the United States Department of Justice.

For 30 days following the date of publication of this notice (see DATES), DOI will receive written comments relating to the settlement (section XI of the proposed settlement). DOI and DEC will consider all comments received and may modify or withdraw their consent to settlement if comments received disclose facts or considerations that indicate that the settlement is inappropriate, improper, or inadequate.

Written comments that we receive become part of the public record associated with this action. Before including your address, phone number, email address, or other personal identifying information in your comment, you should be aware that your entire comment—including your personal identifying information—may be made publicly available at any time. While you can request in your comment that we withhold your personal identifying information from public review, we cannot guarantee we will be able to do so. All submissions from organizations or businesses, and from individuals identifying themselves as representatives or officials of organizations or businesses, will be made available for public disclosure in their entirety.

Dated: December 28, 2016.
Deborah Rocque,
Acting Regional Director, Northeast Region, U.S. Fish and Wildlife Service.

[FR Doc. 2017-00416 Filed 1-10-17; 8:45 am]

BILLING CODE 4333-15-P